DEPARTMENT OF ENERGY

Federal Energy Regulatory Commission

Combined Notice of Filings #1

Take notice that the Commission received the following electric rate filings:

Docket Numbers: ER11-2970-005.

Applicants: Peetz Logan Interconnect, LLC.

Description: Peetz Logan Interconnect, LLC Amendment to Comp Filing and Motion for Leave to be effective 11/13/2011.

Filed Date: 4/5/13.

Accession Number: 20130405-5105.

Comments Due: 5 p.m. ET 4/26/13.

Docket Numbers: ER12-1436-004; ER10-3300-003; ER10-3099-004; ER12-1260-003.

Applicants: Eagle Point Power Generation LLC, La Paloma Generating Company, LLC, RC Cape May Holdings, LLC, Stephentown Spindle, LLC.

Description: Update to Asset Appendices of generation, transmission and transportation assets of Eagle Point Power Generation LLC, et al.

Filed Date: 4/5/13.

Accession Number: 20130405-5175.

Comments Due: 5 p.m. ET 4/26/13.

Docket Numbers: ER12-2145-003; ER10-2834-003; ER11-2905-002; ER11-2904-002; ER10-2821-003; ER12-1329-001.

Applicants: EC&R O&M, LLC, Munnsville Wind Farm, LLC, Pioneer Trail Wind Farm, LLC, Settlers Trail Wind Farm, LLC, Stony Creek Wind Farm, LLC, Wildcat Wind Farm I, LLC.

Description: EC&R O&M, LLC, et. al. submits Notice of Change in Status.

Filed Date: 4/8/13.

Accession Number: 20130408-5078.

Comments Due: 5 p.m. ET 4/29/13.

Docket Numbers: ER13-666-002.

Applicants: Public Service Company of Colorado.

Description: 2013-04-05-NSP-SPNR-Tran-to Load-548 to be effective 1/1/2013.

Filed Date: 4/8/13.

Accession Number: 20130408-5000.

Comments Due: 5 p.m. ET 4/29/13.

Docket Numbers: ER13-1138-001.

Applicants: Duke Energy Indiana, Inc.

Description: Correction Filing ER13-1138 to be effective 7/1/2012.

Filed Date: 4/8/13.

Accession Number: 20130408-5001.

Comments Due: 5 p.m. ET 4/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2013.
Nathaniel J. Davis, Sr.,
Deputy Secretary.

[FR Doc. 2013-08863 Filed 4-15-13; 8:45 am]

BILLING CODE 6717-01-P